DEPARTMENT OF TRANSPORTATION

Surface Transportation Board

[STB Docket No. MC-F-20975]

Stagecoach Holdings plc and Coach USA, Inc., et al.-Control-B & B Bus Corporation, Inc., et al.

AGENCY: Surface Transportation Board, Transportation.

ACTION: Notice tentatively approving finance application.

SUMMARY: Stagecoach Holdings plc (Stagecoach), and its subsidiary, Coach USA, Inc. (Coach), both noncarriers that control motor passenger carriers, and various subsidiaries of each (collectively, applicants), filed an application under 49 U.S.C. 14303 for Stagecoach, related applicants, Coach, and Coach's wholly owned subsidiary, Coach USA Northeast, Inc. (Coach Northeast), to acquire control of twenty-four New Jersey-based motor passenger carriers (New Jersey Carriers),¹ which hold federally issued operating authority to provide charter and special operations between points in the United States.² Persons wishing to oppose the application must follow the rules at 49 CFR 1182.5 and 1182.8. The Board has tentatively approved the transaction, and, if no opposing comments are timely filed, this notice will be the final Board action.

¹ The twenty-four motor passenger carriers are: B & B Bus Corporation, Inc. (MC-233189), Cisko Bus Co., Inc. (MC-22072), D'Arcangelo Bus Co., Inc. (MC-168603), E & A Bus Co., Inc. (MC-168561), Elizabeth Bus Company (MC-168567), Gilsam Bus Company, Inc. (MC-233195), Independent Bus Company, Inc. (MC-168548), J & J Bus Company, Inc. (MC-168563), J & J Transit, Inc. (MC-233193), J & L Bus Co., Inc. (MC-168602), Kaunas Bus Co., Inc. (MC-168549), M & J Bus Company, Inc. (MC-233197), Meadowlands Transit, Inc. (MC-168588), Minsol Bus Company, Inc. (MC-233198), Penn-Mall Transit, Inc. (MC-208153), R & W, Inc. (MC-168547), R & W Transit, Inc. (MC-233186), Road Runner Tours, Inc. (MC-168623), Seven Bus Corporation (MC-233196), South Orange Avenue Bus Association (MC-168650), South Orange Avenue Bus Company, Inc. (MC-168569), Superior Bus Co., Inc. (MC-168622), Vailsburg Bus Co., Inc. (MC-165416), and WJB Company, Inc. (MC-233200).

² Each of the carriers also holds New Jersey intrastate authority. The operations of the carriers consist primarily of regular-route intrastate operations in northern New Jersey and occasional interstate charter operations.

DATES: Comments must be filed by February 26, 2001. Applicants may file a reply by March 12, 2000. If no comments are filed by February 26, 2001, this notice is effective on that date.

ADDRESSES: Send an original and 10 copies of any comments referring to STB Docket No. MC-F-20975 to: Surface Transportation Board, Office of the Secretary, Case Control Unit, 1925 K Street, NW., Washington, DC 20423-0001. In addition, send one copy of comments to applicants' representative: Betty Jo Christian, Steptoe & Johnson LLP, 1330 Connecticut Avenue, NW., Washington, DC 20036.

FOR FURTHER INFORMATION CONTACT: Beryl Gordon, (202) 565-1600. (TDD for the hearing impaired: 1-800-877-8339.)

SUPPLEMENTARY INFORMATION: Stagecoach is a public limited company organized under the laws of Scotland, and Coach is a Delaware corporation. Stagecoach and its subsidiaries currently control Coach and its noncarrier regional management subsidiaries, as well as the motor passenger carriers jointly controlled by Coach and the management subsidiaries.³

³ See Stagecoach Holdings plc-Control-Coach USA, Inc., et al., STB Docket No. MC-F-20948 (STB served July 22, 1999).

Applicants state that, in June 2000, Coach purchased all of the outstanding stock of nineteen of the New Jersey Carriers, and acquired five additional carriers in that transaction by virtue of the fact that some of the nineteen carriers had wholly owned subsidiaries. Simultaneously with the purchase, Coach established five independent voting trusts, and placed 20% of the stock of each of the twenty-four New Jersey Carriers into each of the five separate voting trusts, to ensure no unlawful control of the carriers pending Board approval of the application.

Applicants submit that the federal and state operating authorities held by the New Jersey Carriers will not be transferred from one entity to another as a result of the control transaction, and that there will be no change in the operations of any of the New Jersey Carriers.

Under 49 U.S.C. 14303(b), we must approve and authorize a transaction we find consistent with the public interest, taking into consideration at least: (1) The effect of the transaction on the adequacy of transportation to the public; (2) the total fixed charges that result; and (3) the interest of affected carrier employees.

Applicants have submitted the information required by 49 CFR 1182.2, including information to demonstrate that the proposed transaction is consistent with the public interest under 49 U.S.C. 14303(b). Specifically, applicants have shown that the proposed transaction will have a positive effect on the adequacy of transportation to the public and will result in no increase in fixed charges, and no changes in employment. See 49 CFR 1182.2(a)(7). Additional information, including a copy of the application, may be obtained from the applicants' representative.

On the basis of the application, we find that the proposed transaction is consistent with the public interest and should be authorized. If any opposing comments are timely filed, this finding will be deemed vacated and, unless a final decision can be made on the record as developed, a procedural schedule will be adopted to reconsider the application. See 49 CFR 1182.6(c). If no opposing comments are filed by the expiration of the comment period, this decision will take effect automatically and will be the final Board action.

Board decisions and notices are available on our website at: “WWW.STB.DOT.GOV.”

This decision will not significantly affect either the quality of the human environment or the conservation of energy resources.

It is ordered:

1. The proposed acquisitions of control are approved and authorized, subject to the filing of opposing comments.

2. If timely opposing comments are filed, the findings made in this decision will be deemed as having been vacated.

3. This decision will be effective on February 26, 2001, unless timely opposing comments are filed.

4. A copy of this notice will be served on: (1) the U.S. Department of Transportation, Federal Motor Carrier Safety Administration—MC-RI, 400 Virginia Avenue, SW., Suite 600, Washington, DC 20024; (2) the U.S. Department of Justice, Antitrust Division, 10th Street & Pennsylvania Avenue, NW., Washington, DC 20530; and (3) the U.S. Department of Transportation, Office of the General Counsel, 400 7th Street, SW., Washington, DC 20590.

Decided: January 4, 2001.
By the Board, Chairman Morgan, Vice Chairman Burkes, and Commissioner Clyburn.
Vernon A. Williams,
Secretary.

[FR Doc. 01-954 Filed 1-10-01; 8:45 am]

BILLING CODE 4915-00-P